DEPARTMENT OF TRANSPORTATION

Federal Motor Carrier Safety Administration

[Docket No. FMCSA-2015-0056]

Qualification of Drivers; Exemption Applications; Vision

AGENCY: Federal Motor Carrier Safety Administration (FMCSA), DOT.

ACTION: Notice of applications for exemptions; request for comments.

SUMMARY: FMCSA announces receipt of applications from 59 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before November 2, 2015. All comments will be investigated by FMCSA. The exemptions will be issued the day after the comment period closes.

ADDRESSES: You may submit comments bearing the Federal Docket Management System (FDMS) Docket No. FMCSA-2015-0056 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 59 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Steven B. Anderson

Mr. Anderson, 68, has had macular degeneration and a cataract in his right eye since 1995. The visual acuity in his right eye is 20/60, and in his left eye, 20/20. Following an examination in 2015, his ophthalmologist stated, “In conclusion I think you qualify from a visual perspective for line item 4 for driving a commercial vehicle.” Mr. Anderson reported that he has driven straight trucks for 45 years, accumulating 135,000 miles, and tractor-trailer combinations for 45 years, accumulating 45,000 miles. He holds a Class A CDL from Idaho. His driving record for the last 3 years shows no crashes and no convictions for moving violations in a CMV.

Harjot S. Aujla

Mr. Aujla, 45, has had amblyopia in his left eye since childhood. The visual acuity in his right eye is 20/20, and in his left eye, 20/50. Following an examination in 2015, his optometrist stated, “The patient has sufficient vision to operate a commercial vehicle.” Mr. Aujla reported that he has driven tractor-trailer combinations for 22 years, accumulating 2.02 miles. He holds a Class A CDL from Washington. His driving record for the last 3 years shows no crashes and no convictions for moving violations in a CMV.

Thomas B. Berger

Mr. Berger, 64, has central vision loss in his right eye due to a traumatic incident in 1981. The visual acuity in his right eye is hand motion, and in his left eye, 20/20. Following an examination in 2015, his optometrist stated, “He presented with a history of trauma to this right eye in May of 1981. . . It is my opinion that if Mr. Berger has been operating a commercial vehicle since 1981 he is definitely capable of doing so today.” Mr. Berger reported that he has driven straight trucks for 45 years, accumulating 360,000 miles. He holds an operator's license from Pennsylvania. His driving record for the last 3 years shows no crashes and no convictions for moving violations in a CMV.

Jay E. Biggers

Mr. Biggers, 74, has had a corneal scar and transplant in his left eye since childhood. The visual acuity in his right eye is 20/20, and in his left eye, 20/400. Following an examination in 2015, his optometrist stated, “I certify that in my medical opinion, he has sufficient vision to perform the driving tasks required to operate a commercial vehicle.” Mr. Biggers reported that he has driven tractor-trailer combinations for 33 years, accumulating 2.81 million miles. He holds a Class A CDL from Idaho. His driving record for the last 3 years shows no crashes and no convictions for moving violations in a CMV.

Timothy A. Bohling

Mr. Bohling, 59, has had phthisis bulbi in his left eye due to a traumatic incident in 1993. The visual acuity in his right eye is 20/20, and in his left eye, no light perception. Following an examination in 2015, his ophthalmologist stated, “I believe that Mr. Bohling has sufficient vision to perform the driving tasks of a commercial vehicle.” Mr. Bohling reported that he has driven straight trucks for 1.5 years, accumulating 30,000 miles. He holds an operator's license from Colorado. His driving record for the last 3 years shows no crashes and no convictions for moving violations in a CMV.

Brian M. Bowman

Mr. Bowman, 54, has had a central retinal detachment in his right eye since 2005. The visual acuity in his right eye is hand motion, and in his left eye, 20/20. Following an examination in 2014, his optometrist stated, “Visual Acuity unaided was: right: hand motion, left: 20/20, Best corrected acuity was: right: hand motion, left: 20/20+ Color vision is normal to red, green and amber, In my opinion, patient has the ability to drive a car or commercial vehicle.” Mr. Bowman reported that he has driven straight trucks for 15 years, accumulating 216,000 miles. He holds an operator's license from Tennessee. His driving record for the last 3 years shows no crashes and no convictions for moving violations in a CMV.

Gary Bozowski

Mr. Bozowski, 65, has had refractive amblyopia in his left eye since childhood. The visual acuity in his right eye is 20/20, and in his left eye, 20/70. Following an examination in 2015, his optometrist stated, “Given these findings, I do believe Mr. Bozowski had sufficient vision to operate a commercial vehicle.” Mr. Bozowski reported that he has driven straight trucks for 40 years, accumulating 600,000 miles, and tractor-trailer combinations for 40 years, accumulating one million miles. He holds a Class A CDL from New Jersey. His driving record for the last 3 years shows no crashes and no convictions for moving violations in a CMV.

Timothy V. Burke

Mr. Burke, 64, has had bullous keratopathy and scarring in his left eye since 1976. The visual acuity in his right eye is 20/20, and in his left eye, no light perception. Following an examination in 2015, his optometrist stated, “I referred him to a corneal surgical specialist for further evaluation due to a condition that is beyond my scope of practice. . .Therefore, my records have been updated to indicate, because of the specialist's statement, that `Mr. Burke should be cleared to drive a commercial vehicle on the interstate.'” Mr. Burke reported that he has driven tractor-trailer combinations for three years, accumulating 360,000 miles. He holds a Class A CDL from Colorado. His driving record for the last 3 years shows no crashes and no convictions for moving violations in a CMV.

Timothy J. Burleson

Mr. Burleson, 57, has had central pigment epithelial atrophy in his right eye since 2012. The visual acuity in his right eye is 20/50, and in his left eye, 20/20. Following an examination in 2015, his ophthalmologist stated, “I do think that Mr. Burleson has the vision required to operate a commercial vehicle.” Mr. Burleson reported that he has driven tractor-trailer combinations for 27 years, accumulating 877,500 miles. He holds a Class AM CDL from Illinois. His driving record for the last 3 years shows no crashes and no convictions for moving violations in a CMV.

Robert J. Burns

Mr. Burns, 36, has had amblyopia in his left eye since birth. The visual acuity in his right eye is 20/20, and in his left eye, 20/80. Following an examination in 2015, his optometrist stated, “He has a longstanding history of amblyopia in his left eye. . .In my opinion, Mr. Burns meets the requirements to perform safe driving tasks while operating a commercial vehicle.” Mr. Burns reported that he has driven straight trucks for two years, accumulating 24,000 miles, and tractor-trailer combinations for 3 years, accumulating 450,000 miles. He holds a Class DA CDL from Kentucky. His driving record for the last 3 years shows no crashes and one conviction for a moving violation in a CMV; he exceeded the speed limit by 9 mph in a school zone.

Richard A. Congdon, Jr.

Mr. Congdon, 58, has had a macular scar in his left eye since 2009. The visual acuity in his right eye is 20/20, and in his left eye, 20/400. Following an examination in 2015, his ophthalmologist stated, “Mr [sic] Congdon has a long history of central vision loss in the left eye but he has full peripheral vision in both, so a CDL vision restriction waiver is requested.” Mr. Congdon reported that he has driven straight trucks for 18 years, accumulating 4,500 miles, and tractor-trailer combinations for 18 years, accumulating 450,000 miles. He holds a Class A CDL from Oregon. His driving record for the last 3 years shows no crashes and no convictions for moving violations in a CMV.

James E. Copp

Mr. Copp, 54, has had amblyopia in his right eye since birth. The visual acuity in his right eye is 20/200, and in his left eye, 20/25. Following an examination in 2015, his optometrist stated, “I feel Mr. Copp has sufficient vision to perform the driving tasks required to operate a commercial vehicle.” Mr. Copp reported that he has driven straight trucks for 14 years, accumulating 560,000 miles. He holds an operator's license from Pennsylvania. His driving record for the last 3 years shows no crashes and no convictions for moving violations in a CMV.

Jose C. Costa

Mr. Costa, 41, has had amblyopia in his left eye since birth. The visual acuity in his right eye is 20/20, and in his left eye, 20/200. Following an examination in 2014, his optometrist stated, “Has sufficient vision to operate a commercial vehicle.” Mr. Costa reported that he has driven straight trucks for three years, accumulating 6,000 miles. He holds an operator's license from Washington. His driving record for the last 3 years shows no crashes and no convictions for moving violations in a CMV.

Thomas P. Davidson

Mr. Davidson, 50, has complete loss of vision in his left eye due to a traumatic incident in childhood. The visual acuity in his right eye is 20/20, and in his left eye, no light perception. Following an examination in 2015, his ophthalmologist stated, “Mr. Davidson is a monocular patient who has sufficient vision in his right eye to perform the driving tasks required to operate a commercial vehicle.” Mr. Davidson reported that he has driven straight trucks for 32 years, accumulating 272,000 miles, and tractor-trailer combinations for 18 years, accumulating 54,000 miles. He holds a Class A CDL from New Jersey. His driving record for the last 3 years shows one crash, to which he contributed by failing to secure his load, and no convictions for moving violations in a CMV.

Mark Davis

Mr. Davis, 51, has a cataract in his right eye due to a traumatic incident in childhood. The visual acuity in his right eye is 20/50, and in his left eye, 20/20. Following an examination in 2015, his optometrist stated, “This is to certify that in my medical opinion his vision is sufficient without corrective lenses to safely operate a commercial vehicle.” Mr. Davis reported that he has driven straight trucks for 27 years, accumulating 175,500 miles. He holds a Class B CDL from Maine. His driving record for the last 3 years shows no crashes and no convictions for moving violations in a CMV.

Stephen W. Deminie

Mr. Deminie, 60, has had central serous retinopathy causing a macular scar in his right eye since 1997. The visual acuity in his right eye is 20/60, and in his left eye, 20/20. Following an examination in 2015, his optometrist stated, “Patient has operated a commercial vehicle safely with current visual deficiency, so I feel he has sufficient vision to continue to do so.” Mr. Deminie reported that he has driven tractor-trailer combinations for 26 years, accumulating 3.12 million miles. He holds a Class AM CDL from Texas. His driving record for the last 3 years shows no crashes and no convictions for moving violations in a CMV.

Brad M. Donald

Mr. Donald, 41, has had amblyopia in his right eye since childhood. The visual acuity in his right eye is 20/200, and in his left eye, 20/20. Following an examination in 2015, his optometrist stated, “It is my opinion that Mr. Donald has sufficient vision to perform driving tasks required to operate a commercial vehicle.” Mr. Donald reported that he has driven straight trucks for 10 years, accumulating 600,000 miles, and tractor-trailer combinations for 10 years, accumulating 200,000 miles. He holds a Class CA CDL from Michigan. His driving record for the last 3 years shows no crashes and no convictions for moving violations in a CMV.

Robert L. Ecker

Mr. Ecker, 56, has had amblyopia in his right eye since childhood. The visual acuity in his right eye is hand motion, and in his left eye, 20/20. Following an examination in 2015, his optometrist stated, “Mr. Eckles [sic] has a longstanding decrease in vision in the right eye that has been reported stable for many years. My impression is that the condition should remain as it is for years to come. He currently drives the type of equipment that he is applying for a federal license to drive, so, it is reasonable to assume that he can continue to safely operate commercial vehicles.” Mr. Ecker reported that he has driven straight trucks for 10 years, accumulating 750,000 miles. He holds an operator's license from Maryland. His driving record for the last 3 years shows no crashes and two convictions for moving violations in a CMV; in one incident he exceeded the speed limit by 15 mph; in the other he disregarded a highway sign.

John A. Gartner

Mr. Gartner, 60, has had amblyopia in his right eye since childhood. The visual acuity in his right eye is 20/150, and in his left eye, 20/20. Following an examination in 2015, his optometrist stated, “It is my medical opinion that John has sufficient vision to perform his driving tasks required to operate a commercial vehicle.” Mr. Gartner reported that he has driven straight trucks for 30 years, accumulating 300,000 miles, and tractor-trailer combinations for 20 years, accumulating 1.2 million miles. He holds a Class A CDL from Minnesota. His driving record for the last 3 years shows no crashes and no convictions for moving violations in a CMV.

Brian W. Gillund

Mr. Gillund, 48, has had optic atrophy in his left eye since childhood. The visual acuity in his right eye is 20/20, and in his left eye, light perception. Following an examination in 2015, his optometrist stated, “U.S. Department of Transportation. . .Due to the fact that Brian can see 20/20 in his right eye and peripheral vision is 120 degrees with both eyes, he is able to operate and automobile or truck legally under Minnesota Law.” Mr. Gillund reported that he has driven straight trucks for 27 years, accumulating 135,000 miles, and tractor-trailer combinations for 27 years, accumulating 1.35 million miles. He holds a Class A CDL from Minnesota. His driving record for the last 3 years shows no crashes and no convictions for moving violations in a CMV.

Glenn F. Gorsuch

Mr. Gorsuch, 52, has had a retinal detachment in his right eye due to a traumatic incident in 2009. The visual acuity in his right eye is counting fingers, and in his left eye, 20/20. Following an examination in 2015, his ophthalmologist stated, “Mr. Gorsuch is monocular, meaning that he is seeing through only one eye with any level of quality, and that this eye has a full 120 degree visual field by Humphrey Visual field perimetry. . .I hope that this can be of assistance in the continuation of his passing of his CDL license.” Mr. Gorsuch reported that he has driven tractor-trailer combinations for 33 years, accumulating 3.43 million miles. He holds a Class A CDL from Ohio. His driving record for the last 3 years shows no crashes and no convictions for moving violations in a CMV.

Keith N. Hall

Mr. Hall, 58, has had complete loss of vision in his left eye since 2010. The visual acuity in his right eye is 20/20, and in his left eye, no light perception. Following an examination in 2015, his optometrist stated, “As his visual function is stable for the last several years, it is of my opinion that Mr. Hall has sufficient vision to perform the tasks required by a commercial vehicle.” Mr. Hall reported that he has driven straight trucks for 20 years, accumulating 300,000 miles, and tractor-trailer combinations for 25 years, accumulating 2.5 million miles. He holds a Class A CDL from Utah. His driving record for the last 3 years shows no crashes and no convictions for moving violations in a CMV.

Steven E. Hayes

Mr. Hayes, 57, has had a prosthetic left eye since childhood. The visual acuity in his right eye is 20/15, and in his left eye, no light perception. Following an examination in 2015, his optometrist stated, “Steven Hayes does indeed have sufficient vision to perform the driving tasks required to operate a commercial vehicle.” Mr. Hayes reported that he has driven straight trucks for 38 years, accumulating 950,000 miles, and tractor-trailer combinations for 23 years, accumulating 230,000 miles. He holds a Class A CDL from Indiana. His driving record for the last 3 years shows no crashes and no convictions for moving violations in a CMV.

Francisco Hernandez, Jr.

Mr. Hernandez, 48, has had amblyopia in his right eye since childhood. The visual acuity in his right eye is 20/60, and in his left eye, 20/20. Following an examination in 2015, his optometrist stated, “He show normal color vision, with no defects, is able to recognize the colors of traffic control signals and devices and has sufficient vision to operate a commercial vehicle.” Mr. Hernandez reported that he has driven straight trucks for 10 years, accumulating 350,000 miles, and tractor-trailer combinations for 10 years, accumulating 650,000 miles. He holds a Class A CDL from New Mexico. His driving record for the last 3 years shows no crashes and one conviction for a moving violation in a CMV; he failed to yield to a traffic control device.

Mervin M. Hershberger

Mr. Hershberger, 25, has a prosthetic right eye due to a traumatic incident in 2010. The visual acuity in his right eye is no light perception, and in his left eye, 20/20. Following an examination in 2015, his ophthalmologist stated, “I certify that in my medical opinion Mr. Mervin Hershberger has sufficient vision to perform the driving tasks required to operate a commercial vehicle.” Mr. Hershberger reported that he has driven straight trucks for six years, accumulating 72,000 miles, and tractor-trailer combinations for six years, accumulating 72,000 miles. He holds a Class ABCD CDL from Wisconsin. His driving record for the last 3 years shows one crash, for which he was not cited and to which he did not contribute, and no convictions for moving violations in a CMV.

Dean M. Hobson

Mr. Hobson, 61, has a macula scar of posterior pole and a mature cataract in his right eye due to a traumatic incident in 1972. The visual acuity in his right eye is counting fingers, and in his left eye, 20/20. Following an examination in 2015, his ophthalmologist stated, “Formal color vision testing using Ishihara plates is normal and I feel the patient can recognized red, green and amber and it is my medical opinion that he has sufficient vision to perform the driving tasks required to operate a commercial vehicle.” Mr. Hobson reported that he has driven tractor-trailer combinations for 23 years, accumulating 1.38 million miles. He holds a Class A CDL from Illinois. His driving record for the last 3 years shows no crashes and no convictions for moving violations in a CMV.

Timmy R. Holley

Mr. Holley, 59, has had refractive amblyopia in his right eye since childhood. The visual acuity in his right eye is 20/60, and in his left eye, 20/20. Following an examination in 2014, his optometrist stated, “With corrective lenses Timothy has sufficient vision to perform driving tasks required to operate a commercial vehicle.” Mr. Holley reported that he has driven straight trucks for 22 years, accumulating 66,000 miles, and tractor-trailer combinations for 23 years, accumulating 23,000 miles. He holds a Class AM CDL from Pennsylvania. His driving record for the last 3 years shows no crashes and no convictions for moving violations in a CMV.

David E. Hopson

Mr. Hopson, 50, has had vein occlusion in his left eye since 2006. The visual acuity in his right eye is 20/20, and in his left eye, 20/200. Following an examination in 2015, his optometrist stated, “In my opinion, Mr. Hopson is completely capable of operating commercial equipment/machinery both on and off the highway.”

Mr. Hopson reported that he has driven straight trucks for 25 years, accumulating 2.5 million miles, tractor-trailer combinations for 25 years, accumulating 3.75 million miles, and buses for one year, accumulating 75,000 miles. He holds a Class AM CDL from Texas. His driving record for the last 3 years shows no crashes and no convictions for moving violations in a CMV.

Amos S. Hostetter, Jr.

Mr. Hostetter, 58, has had Coat's exudative and retinopathy in his left eye since birth. The visual acuity in his right eye is 20/15, and in his left eye, 20/125. Following an examination in 2015, his ophthalmologist stated, “In my professional opinion, Amos has sufficient vision to perform the driving tasks required to operate a commercial vehicle.” Mr. Hostetter reported that he has driven straight trucks for 35 years, accumulating 420,000 miles, and tractor-trailer combinations for 35 years, accumulating 420,000 miles. He holds a Class A CDL from Ohio. His driving record for the last 3 years shows no crashes and no convictions for moving violations in a CMV.

Isadore Johnson, Jr.

Mr. Johnson, 73, has decreased vision in his right eye due to a traumatic incident in childhood. The visual acuity in his right eye is 20/400, and in his left eye, 20/30. Following an examination in 2015, his ophthalmologist stated, “He has sufficient vision to perform the driving tasks to operate a commercial vehicle.” Mr. Johnson reported that he has driven straight trucks for 53 years, accumulating 212,000 miles, and tractor-trailer combinations for 55 years, accumulating 990,000 miles. He holds a Class AM CDL from New York. His driving record for the last 3 years shows no crashes and no convictions for moving violations in a CMV.

William J. Kelly

Mr. Kelly, 59, has had amblyopia in his right eye since birth. The visual acuity in his right eye is light perception, and in his left eye, 20/20. Following an examination in 2015, his optometrist stated, “In my opinion, he has sufficient vision to perform the driving tasks to operate a commercial vehicle.” Mr. Kelly reported that he has driven straight trucks for 34 years, accumulating 1.97 million miles. He holds a Class B CDL from Connecticut. His driving record for the last 3 years shows no crashes and no convictions for moving violations in a CMV.

Stephen C. Linardos

Mr. Linardos, 52, has complete loss of vision in his left eye due to a traumatic incident in 2011. The visual acuity in his right eye is 20/25, and in his left eye, no light perception. Following an examination in 2015, his ophthalmologist stated, “I

Robert W. Jacey, MD certify in my medical opinion that Mr. Stephen Linardos does have sufficient vision in right eye to perform the driving tasks required to operate a commercial vehicle.” Mr. Linardos reported that he has driven straight trucks for 27 years, accumulating 1.79 million miles, and tractor-trailer combinations for 27 years, accumulating 3.24 million miles. He holds a Class A CDL from Florida. His driving record for the last 3 years shows no crashes and no convictions for moving violations in a CMV.

Daniel C. Linares

Mr. Linares, 59, has had glaucoma in his left eye since 2005. The visual acuity in his right eye is 20/20, and in his left eye, no light perception. Following an examination in 2015, his optometrist stated, “VA is sufficient for a commercial vehicle.”

Mr. Linares reported that he has driven tractor-trailer combinations for 16 years, accumulating 506,880 miles. He holds a Class A CDL from California. His driving record for the last 3 years shows no crashes and no convictions for moving violations in a CMV.

Ray J. Liner

Mr. Liner, 62, has had macular scar in his right eye since childhood. The visual acuity in his right eye is 20/200, and in his left eye, 20/20. Following an examination in 2014, his ophthalmologist stated, “I feel Mr. Liner has adequate vision to drive a commercial vehicle.” Mr. Liner reported that he has driven straight trucks for 44 years, accumulating 114,400 miles. He holds a Class B CDL from Louisana. His driving record for the last 3 years shows no crashes and no convictions for moving violations in a CMV.

Robert E. Mayers

Mr. Mayers, 58, has complete loss of vision in his right eye due to a traumatic incident in childhood. The visual acuity in his right eye is no light perception, and in his left eye, 20/20. Following an examination in 2015, his optometrist stated, “Right eye is prosthetic since injury at age 4 years old. . .He has adapted well to the condition. In my medical opinion, this patient is capable of driving a commercial vehicle safely.”

Mr. Mayers reported that he has driven straight trucks for 40 years, accumulating 400,000 miles, tractor-trailer combinations for 30 years, accumulating 150,000 miles, and buses for 40 years, accumulating 400,000 miles. He holds a Class A CDL from Minnesota. His driving record for the last 3 years shows no crashes and no convictions for moving violations in a CMV.

Kraig P. Middleton

Mr. Middleton, 66, has had a Lasik surgery complication in his left eye since 2008. The visual acuity in his right eye is 20/20, and in his left eye, 20/60. Following an examination in 2015, his optometrist stated, “To whom it may concern,

Kraig Middleton, having an uncorrected visual acuity of 20/25 OU, should be very capable of operating a commercial/passenger motor vehicle based on his visual acuity.” Mr. Middleton reported that he has driven buses for four years, accumulating 39,996 miles. He holds a chauffer's license from Michigan. His driving record for the last 3 years shows no crashes and no convictions for moving violations in a CMV.

James G. Miles

Mr. Miles, 36, has had optic atrophy in his left eye since childhood. The visual acuity in his right eye is 20/20, and in his left eye, light perception. Following an examination in 2015, his optometrist stated, “Mr. Miles has sufficient vision to perform the driving task required to operate a commercial vehicle.” Mr. Miles reported that he has driven straight trucks for 18 years, accumulating 900,000 miles. He holds a Class B CDL from Tennessee. His driving record for the last 3 years shows no crashes and no convictions for moving violations in a CMV.

Rogelio Rocha Monjaraz

Mr. Monjaraz, 56, has complete loss of vision in his right eye due to a traumatic incident in childhood. The visual acuity in his right eye is no light perception, and in his left eye, 20/25. Following an examination in 2015, his optometrist stated, “It is my medical opinion that Mr. Rocha has sufficient vision to perform the driving tasks required to continue to operate a commercial vehicle.” Mr. Monjaraz reported that he has driven straight trucks for 30 years, accumulating 240,000 miles. He holds an operator's license from Maryland. His driving record for the last 3 years shows no crashes and no convictions for moving violations in a CMV.

Pablo R. Murillo

Mr. Murillo, 32, has had a chorioretinal scar and Coat's disease in his left eye since childhood. The visual acuity in his right eye is 20/20, and in his left eye, 20/400. Following an examination in 2015, his ophthalmologist stated, “His right eye testing showed Within [sic] normal limits with good reliability and visual field defects. I see no contraindication with him driving a commercial vehicle and he is obtaining a federal waiver.” Mr. Murillo reported that he has driven straight trucks for four years, accumulating 72,000 miles, and tractor-trailer combinations for nine months, accumulating 18,750 miles. He holds a Class A CDL from Texas. His driving record for the last 3 years shows no crashes and no convictions for moving violations in a CMV.

Wayne Nicolaisen

Mr. Nicolaisen, 58, has had amblyopia in his left eye since childhood. The visual acuity in his right eye is 20/20, and in his left eye, 20/400. Following an examination in 2015, his optometrist stated, “Wayne Nicolaisen has sufficient vision to perform the driving tasks required to operate a commercial vehicle.” Mr. Nicolaisen reported that he has driven straight trucks for 42 years, accumulating 2.73 million miles, and tractor-trailer combinations for 41 years, accumulating 2.67 million miles. He holds a Class A CDL from Pennsylvania. His driving record for the last 3 years shows no crashes and no convictions for moving violations in a CMV.

John R. Ogno

Mr. Ogno, 45, has had a retinal detachment in his left eye since 1982. The visual acuity in his right eye is 20/20, and in his left eye, 20/60. Following an examination in 2014, his optometrist stated, “He has sufficient vision to qualify for a commercial vehicle license.” Mr. Ogno reported that he has driven straight trucks for 25 years, accumulating 375,000 miles. He holds a Class B CDL from New Jersey. His driving record for the last 3 years shows no crashes and no convictions for moving violations in a CMV.

Richard A. Parker II

Mr. Parker, 24, has had optic neuropathy and a retinal scar in his right eye since childhood. The visual acuity in his right eye is 20/60, and in his left eye, 20/20. Following an examination in 2015, his optometrist stated, “I believe that Richard Parker has sufficient vision to safely drive and operate a commercial vehicle.” Mr. Parker reported that he has driven straight trucks for two years, accumulating 30,000 miles, and tractor-trailer combinations for two years, accumulating 60,000 miles. He holds a Class A CDL from Kansas. His driving record for the last 3 years shows no crashes and no convictions for moving violations in a CMV.

Vincent E. Perkins

Mr. Perkins, 56, has a prosthetic left eye due to a traumatic incident in 1980. The visual acuity in his right eye is 20/20, and in his left eye, no light perception. Following an examination in 2015, his ophthalmologist stated, “It is my opinion that Mr. Perkins continues to maintain normal full vision in his right eye; that his condition has been stable for decades; and he continues to have sufficient vision to perform the driving tasks required to operate a commercial vehicle.” Mr. Perkins reported that he has driven straight trucks for 23 years, accumulating 690,000 miles. He holds a Class B CDL from Massachusetts. His driving record for the last 3 years shows no crashes and no convictions for moving violations in a CMV.

John R. Price

Mr. Price, 36, has had aphakic, penetrating keratoplasy and amblyopia in his left eye since childhood. The visual acuity in his right eye is 20/20, and in his left eye, 20/200. Following an examination in 2015, his optometrist stated, “He has been driving a commercial vehicle for 13 years with the use of right eye; and same vision and fields for 13 years.” Mr. Price reported that he has driven straight trucks for 13 years, accumulating 118,300 miles. He holds an operator's license from Arkansas. His driving record for the last 3 years shows no crashes and no convictions for moving violations in a CMV.

Francis D. Reginald, Jr.

Mr. Reginald, 45, has had amblyopia in his left eye since birth. The visual acuity in his right eye is 20/25, and in his left eye, 20/70. Following an examination in 2015, his optometrist stated, “In my medical opinion, Francis has sufficient vision to perform the driving tasks required to operate a commercial vehicle.” Mr. Reginald reported that he has driven straight trucks for 19 years, accumulating 66,500 miles. He holds a Class B CDL from New Jersey. His driving record for the last 3 years shows no crashes and no convictions for moving violations in a CMV.

Juan A. Rodriguez

Mr. Rodriguez, 51, has had amblyopia in his left eye since childhood. The visual acuity in his right eye is 20/20, and in his left eye, 20/400. Following an examination in 2015, his optometrist stated, “It is in my medical opinion that Juan has sufficient visual abilities to safely operate a commercial vehicle.” Mr. Rodriguez reported that he has driven straight trucks for 23 years, accumulating 276,000 miles. He holds a Class D CDL from Connecticut. His driving record for the last 3 years shows no crashes and no convictions for moving violations in a CMV.

Roger D. Rogers

Mr. Rogers, 43, has had a macular scar and aphakia in his left eye due to a traumatic incident in 2012. The visual acuity in his right eye is 20/20, and in his left eye, 20/100. Following an examination in 2015, his optometrist stated, “Mr. Rogers should have sufficient vision to operate a commercial vehicle equipped with side mirrors.”

Mr. Rogers reported that he has driven tractor-trailer combinations for 18.5 years, accumulating 1.8 million miles. He holds a Class A CDL from Pennsylvania. His driving record for the last 3 years shows no crashes and no convictions for moving violations in a CMV.

Robert E. Rohrer

Mr. Rohrer, 74, has retinal scarring in his left eye due to measles in childhood. The visual acuity in his right eye is 20/30, and in his left eye, counting fingers. Following an examination in 2015, his optometrist stated, “Because Mr. Rohrer has been without significant vision in his left eye most of his life, I feel that it does not interfere in his ability to drive a limousine professionally and has sufficient vision and visual field to perform his driving tasks.” Mr. Rohrer reported that he has driven buses for seven years, accumulating 52,500 miles. He holds an operator's license from Pennsylvania. His driving record for the last 3 years shows no crashes and no convictions for moving violations in a CMV.

David L. Roth

Mr. Roth, 50, has had complete loss of vision in his left eye since 2008. The visual acuity in his right eye is 20/20, and in his left eye, hand motion. Following an examination in 2014, his optometrist stated, “In my opinion, due to his adaptation to his condition and that the condition is stable, David Roth has sufficient vision to perform driving tasks required to operate a commercial vehicle as long as his vehicle has mirrors on the driver and passenger sides.” Mr. Roth reported that he has driven straight trucks for four years, accumulating 180,000 miles, and tractor-trailer combinations for 25 years, accumulating 1.25 million miles. He holds a Class A3 CDL from South Dakota. His driving record for the last 3 years shows no crashes and no convictions for moving violations in a CMV.

James O. Russell, Jr.

Mr. Russell, 57, has had amblyopia and optic nerve coloboma in his right eye since birth. The visual acuity in his right eye is 20/250, and in his left eye, 20/20. Following an examination in 2015, his optometrist stated, “Mr. Russell has functioned all his life relying solely on the vision in his left eye to compensate for the vision in the right eye. He has been driving a commercial vehicle for over 20 years with no accidents, which would indicate he has sufficient vision to perform the tasks required to operate a commercial vehicle.” Mr. Russell reported that he has driven straight trucks for 10 years, accumulating 600,000 miles, and tractor-trailer combinations for 20 years, accumulating 3.4 million miles. He holds a Class A CDL from Ohio. His driving record for the last 3 years shows no crashes and no convictions for moving violations in a CMV.

Ronald B. Salter

Mr. Salter, 54, has had a traumatic cataract, secondary glaucoma, and 30 prism diopter exotrope in his right eye since 1979. The visual acuity in his right eye is no light perception, and in his left eye, 20/20. Following an examination in 2015, his optometrist stated, “I believe that Mr. Ronald has sufficient vision to perform the driving tasks to operate a commercial vehicle.” Mr. Salter reported that he has driven tractor-trailer combinations for 20 years, accumulating 2.55 million miles. He holds a Class A CDL from Mississippi. His driving record for the last 3 years shows no crashes and no convictions for moving violations in a CMV.

Michael J. Schmelzle

Mr. Schmelzle, 55, has had a retinal scar in his left eye since 1979. The visual acuity in his right eye is 20/20, and in his left eye, 20/1200. Following an examination in 2014, his optometrist stated, “In my medical opinion, Michael has sufficient vision to perform the driving tasks required to operate a commercial vehicle.” Mr. Schmelzle reported that he has driven straight trucks for 40 years, accumulating 100,000 miles, and tractor-trailer combinations for 35 years, accumulating 87,500 miles. He holds a Class A CDL from Kansas. His driving record for the last 3 years shows no crashes and no convictions for moving violations in a CMV.

Ralph J. Schmitt

Mr. Schmitt, 61, has had amblyopia and open angle glaucoma in his right eye since childhood. The visual acuity in his right eye is 20/200, and in his left eye, 20/20. Following an examination in 2014, his ophthalmologist stated, “In my medical opinion, his vision is adequate to perform driving tasks required to operative [sic] a commercial vehicle as he has done in the past.” Mr. Schmitt reported that he has driven straight trucks for 44 years, accumulating 220,000 miles. He holds an operator's license from Colorado. His driving record for the last 3 years shows no crashes and no convictions for moving violations in a CMV.

Charles D. Theademan

Mr. Theademan, 40, has had refractive amblyopia in his left eye since childhood. The visual acuity in his right eye is 20/20, and in his left eye, 20/50. Following an examination in 2015, his optometrist stated, “Charles Theademan has been driving interstate commercial vehicles successfully for 13 years. . .His visual acuity with spectacles is 20/50+2 OS due to refractive amblyopia.” Mr. Theademan reported that he has driven tractor-trailer combinations for 12 years, accumulating 1.2 million miles. He holds a Class A CDL from Washington. His driving record for the last 3 years shows no crashes and no convictions for moving violations in a CMV.

Dwight Tullis

Mr. Tullis, 62, has had a retinal detachment in his right eye since 1987. The visual acuity in his right eye is counting fingers, and in his left eye, 20/20. Following an examination in 2015, his optometrist stated, “In my medical opinion he has sufficient vision to drive a commercial vehicle.” Mr. Tullis reported that he has driven straight trucks for 25 years, accumulating 500,000 miles. He holds an operator's license from Illinois. His driving record for the last 3 years shows no crashes and no convictions for moving violations in a CMV.

Arnulfo J. Valenzuela

Mr. Valenzuela, 41, has had a macular hole in his left eye since childhood. The visual acuity in his right eye is 20/20, and in his left eye, 20/100. Following an examination in 2015, his optometrist stated, “It is my medical opinion that this non-progressive macular hole has been there for many years and that he has sufficient vision to perform the tasks to drive a commercial vehicle.” Mr. Valenzuela reported that he has driven straight trucks for five years, accumulating 475,000 miles, and tractor-trailer combinations for 11 years, accumulating 1.1 million miles. He holds a Class A CDL from Texas. His driving record for the last 3 years shows no crashes and no convictions for moving violations in a CMV.

Danny L. Watson

Mr. Watson, 49, has had amblyopia in his right eye since childhood. The visual acuity in his right eye is 20/80, and in his left eye, 20/20. Following an examination in 2015, his optometrist stated, “In my opinion, Mr. Watson does have sufficient vision to perform the driving tasks required to operate a commercial vehicle.” Mr. Watson reported that he has driven straight trucks for 29 years, accumulating 1.16 million miles, and tractor-trailer combinations for two years, accumulating 10,000 miles. He holds a Class AM CDL from Tennessee. His driving record for the last 3 years shows no crashes and no convictions for moving violations in a CMV.

Lorenzo A. Williams

Mr. Williams, 52, has had amblyopia in his left eye since childhood. The visual acuity in his right eye is 20/20, and in his left eye, 20/200. Following an examination in 2015, his ophthalmologist stated, “It is my medical opinion that Lorenzo Williams has sufficient vision to perform the driving tasks required to operate a commercial vehicle with a large rearview mirror and commercial left and right side mirrors.” Mr. Williams reported that he has driven straight trucks for 30 years, accumulating 1.2 million miles, and tractor-trailer combinations for 30 years, accumulating 2.7 million miles. He holds a Class CA CDL from Delaware. His driving record for the last 3 years shows no crashes and no convictions for moving violations in a CMV.

William E. Zezulka

Mr. Zezulka, 68, has had a cancerous tumor in his left eye since 2005. The visual acuity in his right eye is 20/20, and in his left eye, light perception. Following an examination in 2015, his optometrist stated, “In my professional medical opinion, William Zezulka's visual capabilities are sufficient to perform the driving tasks required to operate a commercial vehicle.” Mr. Zezulka reported that he has driven straight trucks for 52 years, accumulating 1.06 million miles, and buses for nine years, accumulating 135,000 miles. He holds a Class B CDL from Minnesota. His driving record for the last 3 years shows non crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0056 in the “Keyword” box, and click “Search. When the new screen appears, click on “Comment Now!” button and type your comment into the text box in the following screen. Choose whether you are submitting your comment as an individual or on behalf of a third party and then submit. . If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0056 in the “Keyword” box and click “Search.” Next, click “Open Docket

Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: September 25, 2015.
Larry W. Minor,
Associate Administrator for Policy.

[FR Doc. 2015-24926 Filed 9-30-15; 8:45 am]

BILLING CODE 4910-EX-P